DEPARTMENT OF COMMERCE

National Oceanic and Atmospheric Administration

[RTID 0648-XC109]

Notice of Availability of the Deepwater Horizon Oil Spill Alabama Trustee Implementation Group Alabama Swift Tract Living Shoreline Project: Final Supplemental Environmental Assessment

AGENCY: National Marine Fisheries Service (NMFS), National Oceanic and Atmospheric Administration (NOAA), Department of Commerce.

ACTION: Notice of availability.

SUMMARY: This Alabama Trustee Implementation Group (TIG) Alabama Swift Tract Living Shoreline Project: Final Supplemental Environmental Assessment (Final Supplemental EA) describes, and in conjunction with the associated Finding of No Significant Impact (FONSI), selects the preferred restoration alternative, which consists of the removal of rocks from the Bon Secour Bay bottom near the original Swift Tract Living Shoreline Project's action area and the placement of the removed rocks on a nearby breakwater. The proposed action falls within the general scope of the purpose and need for the original Swift Tract Living Shoreline Project, which was identified and evaluated in the Deepwater Horizon Oil Spill Programmatic and Phase III Early Restoration Plan and Early Restoration Programmatic Environmental Impact Statement (Phase III ERP/PEIS). The proposed action is also consistent with the Deepwater Horizon Oil Spill Final Programmatic Damage Assessment and Restoration Plan and Final Programmatic Environmental Impact Statement (PDARP/PEIS), as it focuses on the restoration of injuries to Alabama's natural resources and services—in particular to Restoration Type: “Wetlands, Coastal, and Nearshore Habitats,” using funds made available in early restoration and through the DWH Consent Decree. The Federal Trustees of the Alabama TIG have determined that the implementation of the Final Supplemental EA is not a major Federal action significantly affecting the quality of the human environment within the context of the National Environmental Policy Act (NEPA). Therefore, they have concluded a FONSI is appropriate, and, therefore, an Environmental Impact Statement will not be prepared.

ADDRESSES:

Obtaining Documents: You may access the Final Supplemental EA from the “News” section of the Alabama TIG website at: http://www.gulfspillrestoration.noaa.gov/restoration-areas/alabama. Alternatively, you may request a CD of the Final Supplemental EA (see FOR FURTHER INFORMATION CONTACT below).

FOR FURTHER INFORMATION CONTACT: National Oceanic and Atmospheric Administration—Stella Wilson, NOAA Restoration Center, 850-332-4169, Estelle.Wilson@noaa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over one million gallons of dispersants were applied to the waters of the spill area in an attempt to disperse the spilled oil. An undetermined amount of natural gas was also released into the environment as a result of the spill.

The Deepwater Horizon Federal and State natural resource trustees (Trustees) conducted the natural resource damage assessment (NRDA) for the Deepwater Horizon oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete. The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Alabama Restoration Area are selected and implemented by the Alabama TIG.

Background

Notice of Availability of the Deepwater Horizon Oil Spill Alabama Trustee Implementation Group Draft Living Shoreline Supplemental Environmental Assessment (Draft Supplemental EA) was published in the Federal Register at 87 FR 10339 on February 24, 2022. The public comment period for the Draft Supplemental EA closed on March 28, 2022. One public comment was received during the comment period. It was reviewed and taken into consideration in the preparation of the Final Supplemental EA. All correspondence received is provided in the DWH Administrative Record.

Overview of the Alabama TIG Final Supplemental EA

As described in Section III of this Final Supplemental EA (the “OPA Summary”), the Alabama TIG has determined that the proposed corrective action does not alter its original conclusions for the Swift Tract Living Shorelines Project under OPA and its implementing regulations. Thus, the Alabama TIG concludes that implementation of the corrective action proposed in this Supplemental EA does not require further OPA evaluation, and this Supplemental EA focuses its analysis on the potential environmental impacts of the proposed corrective action under NEPA.

This Supplemental EA provides NEPA analysis for the Swift Tract Living Shorelines Project proposed corrective action by supplementing the NEPA analysis for the Phase III ERP/PEIS. The supplemental NEPA analysis provided in this Swift Tract Supplemental EA augments and incorporates by reference the applicable sections (Chapter 11, Affected Environment, Environmental Consequences for the Swift Tract Restoration Project) of the Phase III ERP/PEIS. This supplemental analysis considers any additional environmental impacts that would result from implementation of the corrective action that are not described and analyzed in the Phase III ERP/PEIS.

The Final Supplemental EA evaluates the proposed removal of rocks from the bay bottom near the Swift Tract Living Shoreline Project action area and the placement of the removed rocks on a nearby The Nature Conservancy (TNC) breakwater. The proposed rock removal and breakwater placement locations are adjacent to, but outside of, the project action area identified in the Final Phase III ERP/PEIS. Due to the close proximity of the new removal and placement areas to the existing Swift Tract breakwater, the Affected Environment for the proposed removal and placement areas would be the same as that evaluated for the Swift Tract breakwater in the Phase III ERP/PEIS. The environmental consequences of the proposed corrective action are also anticipated to fall generally within the scope of the environmental consequences evaluated for the original project. Therefore, the Environmental Consequences reviewed in the Swift Tract project evaluation, in Chapter 11, Section 11.4 of the Final Phase III ERP/PEIS, are reviewed in the Supplemental EA to evaluate the likely environmental consequences of the proposed corrective action and the “No Action” alternatives to determine whether implementation of the proposed corrective action may alter the conclusions made in the Final Phase III ERP/PEIS. Under the “No Action” alternative, the rocks currently located on the water bottom would not be removed from the water bottom and would instead be left in place.

In the Supplemental EA, the Alabama TIG concludes that implementation of the proposed action would not significantly impact the quality of the human environment and, therefore, that an environmental impact statement for this action is not necessary. The Alabama TIG thus proposes implementation of the preferred corrective action, removal of the rock material from the bay bottom near the living shoreline constructed during the original Swift Tract Living Shoreline Project and placement of that rock material on the nearby TNC breakwater.

Administrative Record

The documents comprising the Administrative Record for the Supplemental EA can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: August 12, 2022.
Carrie Dianne Robinson,
Director, Office of Habitat Conservation, National Marine Fisheries Service.

[FR Doc. 2022-17719 Filed 8-16-22; 8:45 am]

BILLING CODE 3510-22-P